DEPARTMENT OF ENERGY

Federal Energy Regulatory Commission

[Docket No. CP25-219-000]

Gulf South Pipeline Company, LLC; Notice of Schedule for the Preparation of An Environmental Assessment for the Southeast Compression Utility and Reliability Expansion Project

On April 16, 2025, Gulf South Pipeline Company, LLC (Gulf South) filed an application in Docket No. CP25-219-000 requesting a Certificate of Public Convenience and Necessity pursuant to Section 7(c) of the Natural Gas Act to construct and operate certain natural gas pipeline facilities in Madison Parish, Louisiana and Jasper, Forrest, and Hinds Counties, Mississippi. The proposed project is known as the Southeast Compression Utility and Reliability Expansion (SECURE) Project, and would involve modifications at three existing compressor stations and construction of one new compressor station. The SECURE Project would provide 280,000 dekatherms per day (Dth/d) of firm transportation service to certain southeast markets on Gulf South's system, including power generation customers.

On April 28, 2025, the Federal Energy Regulatory Commission (Commission or FERC) issued its Notice of Application for the SECURE Project. Among other things, that notice alerted agencies issuing federal authorizations of the requirement to complete all necessary reviews and to reach a final decision on a request for a federal authorization within 90 days of the date of issuance of the Commission staff's environmental document for the project.

This notice identifies Commission staff's intention to prepare an environmental assessment (EA) for the project and the planned schedule for the completion of the environmental review.¹ The EA will be issued for a 30-day comment period.

¹ For tracking purposes under the National Environmental Policy Act, the unique identification number for documents relating to this environmental review is EAXX-019-20-000-1754481444

Schedule for Environmental Review

Issuance of EA—December 29, 2025

90-day Federal Authorization Decision Deadline ²—March 29, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the project's progress.

Project Description

The SECURE project would consist of the following facilities:

• installation of one 27,677-horsepower (hp) Solar Titan 250 compressor unit at the existing Tallulah Compressor Station in Madison Parish, Louisiana;

• installation of one 13,290-hp Solar Mars 100 compressor unit at the existing Jasper Compressor Station in Jasper County, Mississippi;

• installation of one 16,997-hp Solar Titan 130 compressor unit and restaging the existing Solar Mars 100 compressor unit at the existing Forrest Compressor Station in Forrest County, Mississippi; and

• construction of the new Hinds Compressor Station, including one 27,667-hp Solar Titan 250 compressor unit, in Hinds County, Mississippi.

Background

On May 30, 2025, the Commission issued a Notice of Scoping Period Requesting Comments on Environmental Issues for the Proposed SECURE Project (Notice of Scoping). The Notice of Scoping was sent to affected landowners; federal, state, and local government agencies; elected officials; environmental and public interest groups; Native American tribes; other interested parties; and local libraries and newspapers. The Commission received comments from the Louisiana Department of Wildlife and Fisheries, Louisiana Department of Environmental Quality, Louisiana Ecological Services Office, and one potentially affected landowner. The primary issues raised by the commenters are noise, air quality, recreation, state and federally listed special status species, state emission standards and other potentially required state permits, solid and hazardous waste, water quality, groundwater, soil contamination, and alternative compressor station sites. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the project is available from the Commission's Office of External Affairs at (866) 208-FERC or on the FERC website (www.ferc.gov). Using the “eLibrary” link, select “General Search” from the eLibrary menu, enter the selected date range and “Docket Number” excluding the last three digits (i.e., CP25-219), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 8, 2025.
Debbie-Anne A. Reese,
Secretary.

[FR Doc. 2025-15364 Filed 8-12-25; 8:45 am]

BILLING CODE 6717-01-P